DEPARTMENT OF THE TREASURY

Internal Revenue Service

Notice of Solicitation of Panel Members

AGENCY: Internal Revenue Service (IRS), Treasury.

ACTION: Notice.

SUMMARY: Applications are being accepted for membership on the panels, located in Brooklyn, Florida, Milwaukee and Seattle.

DATES: The Application period is January 29, 2001 to March 9, 2001.

FOR FURTHER INFORMATION CONTACT: Michael Lewis, Director, IRS Citizen Advocacy Panel, Office of the Assistant Secretary for Management and Chief Financial Officer, Department of the Treasury, 1500 Pennsylvania Avenue, NW., Room 2421, Washington, DC 20220. Information is also available at www.improveirs.org.

SUPPLEMENTARY INFORMATION: The mission of the panels is: to provide citizen input into enhancing IRS customer service by identifying problems and making recommendations for improvement with IRS systems and procedures; elevate the identified problems to the appropriate IRS official and monitor the progress to effect change; and refer individual taxpayers to the appropriate IRS office for assistance in resolving their problems. The panels will consist of 9-14 volunteer members who serve at the pleasure of the Secretary of Treasury and will function solely as advisory bodies.

The panels are seeking applicants who have an interest in good government, a personal commitment to volunteer approximately 300 hours a year and a desire to help improve IRS customer Service. Potential candidates must be U.S. Citizens, compliant with Federal, State and Local Taxes, and pass a FBI name check. Experience in the following areas is helpful: formulating and presenting proposals; knowledge of taxpayer concerns; experience representing the interests of your community, state or region; working with people from diverse backgrounds; and helping people resolve disputes.

Dated: January 11, 2001.
John J. Mannion,
Director, Program Planning and Quality.

[FR Doc. 01-2361 Filed 1-25-01; 8:45 am]

BILLING CODE 4830-01-P